DEPARTMENT OF LABOR

Occupational Safety and Health Administration

[Docket No. OSHA-2014-0001]

National Advisory Committee on Occupational Safety and Health (NACOSH)

AGENCY: Occupational Safety and Health Administration (OSHA), Labor.

ACTION: Request for nominations to serve on NACOSH.

SUMMARY: The Assistant Secretary of Labor for Occupational Safety and Health requests nominations for membership on NACOSH.

DATES: Nominations for NACOSH must be submitted (postmarked, sent or received) by May 27, 2014.

ADDRESSES: You may submit nominations for NACOSH, which must include the docket number for this Federal Register notice (Docket No. OSHA-2014-0001), by one of the following methods:

Electronically: You may submit nominations, including attachments, electronically at http://www.regulations.gov, which is the Federal eRulemaking Portal. Follow the instructions on-line for submitting nominations.

Facsimile: If your nomination, including attachments, does not exceed 10 pages, you may fax it to the OSHA Docket Office at (202) 693-1648.

Mail, express delivery, hand delivery, messenger or courier service: Submit your nomination to the OSHA Docket Office, Room N-2625, U.S. Department of Labor, 200 Constitution Avenue NW., Washington DC 20210; telephone (202) 693-2350 (OSHA's TTY number is (877) 889-5627). Deliveries (hand, express mail, messenger and courier service) are accepted during the Department of Labor's and Docket Office's normal business hours, 8:15 a.m.-4:45 p.m., e.t, weekdays.

FOR FURTHER INFORMATION CONTACT: For press inquiries: Mr. Francis Meilinger, OSHA, Office of Communications, U.S. Department of Labor, Room N-3647, 200 Constitution Avenue NW., Washington, DC 20210; telephone (202) 693-1999; email meilinger.francis2@dol.gov.

For general information: Ms. Michelle Walker, OSHA, Directorate of Technical Support and Emergency Management, Room N-2625, U.S. Department of Labor, 200 Constitution Avenue NW., Washington DC 20210; telephone (202) 693-2350; email walker.michelle@dol.gov.

SUPPLEMENTARY INFORMATION: The Assistant Secretary of Labor for Occupational Safety and Health invites interested individuals to submit nominations for membership on NACOSH.

Section 7(a) of the Occupational Safety and Health Act of 1970 (OSH Act) (29 U.S.C. 651, 656) authorizes NACOSH to advise the Secretary of Labor and the Secretary of Health and Human Services (HHS) on matters relating to the administration of the OSH Act. NACOSH is a continuing advisory body and operates in accordance with the OSH Act, the Federal Advisory Committee Act (5 U.S.C. App. 2), and regulations issued pursuant to those statutes (29 CFR part 1912a, 41 CFR part 102-3).

NACOSH is comprised of 12 members, all of whom the Secretary of Labor appoints. The terms of eight NACOSH members terminate on May 21, 2014 and the terms of the other four members expire just a few months later, on January 22, 2015. Given this, OSHA is accepting nominations for all 12 positions on NACOSH, which is composed of the following:

• Four public representatives;

• Two management representatives;

• Two labor representatives;

• Two occupational safety professional representatives; and

• Two occupational health professional representatives.

Pursuant to 29 CFR 1912a.2, the HHS Secretary designates one of the occupational health professional representative, one occupational safety professional representative, and two public representatives for appointment by the Secretary of Labor. OSHA will provide to HHS all nominations and supporting materials for the membership categories they designate.

NACOSH members serve staggered terms, unless the member becomes unable to serve, resigns, ceases to be qualified to serve, or is removed by the Secretary of Labor. As such, the Secretary will appoint six members to a two-year term and six to a three-year term. If a vacancy occurs before a term expires, the Secretary may appoint a new member who represents the same interest as the predecessor to serve the remainder of the unexpired term. The Committee must meet at least two times a year (29 U.S.C. 656(a)(1)).

Any interested person or organization may nominate one or more qualified persons for NACOSH membership. Nominations must include the nominee's name, occupation or current position, and contact information. The nomination also must identify the category that the candidate is qualified to represent, and include a resume of the nominee's background, experience, and qualifications. In addition, the nomination must state that the nominee is aware of the nomination and is willing to serve on and regularly attend NACOSH meetings.

The Secretary of Labor will appoint NACOSH members on the basis of their experience and competence in the field of occupational safety and health (29 CFR 1912a.2). The information OSHA receives through this nomination process, in addition to other relevant sources of information, will assist the Secretary of Labor in appointing members to serve on NACOSH. In appointing NACOSH members, the Secretary of Labor will consider individuals nominated in response to this Federal Register notice, as well as other qualified individuals.

The U.S. Department of Labor (Department) is committed to equal opportunity in the workplace and seeks broad-based and diverse NACOSH membership. The Department will conduct a public records check of nominees before their appointment using publicly available, internet-based sources.

Public Participation—Submission of Nominations and Access to Docket

You may submit nominations: (1) Electronically at http://www.regulations.gov, the Federal eRulemaking Portal; (2) by facsimile (Fax); or (3) by hard copy. All comments, attachments and other material must identify the Agency name and docket number for this Federal Register notice (OSHA Docket No. OSHA-2014-0001). You may supplement electronic nominations by uploading document files electronically. If, instead, you wish to submit additional materials in reference to an electronic or fax submission, you must submit them to the OSHA Docket Office (see ADDRESSES section). The additional materials must clearly identify your electronic nomination by name, date, and docket number so OSHA can attach the materials to your nomination.

Because of security-related procedures, the use of regular mail may cause a significant delay in the receipt of nominations. For information about security procedures concerning the delivery of materials by hand, express delivery, messenger or courier service, please contact the OSHA Docket Office (see ADDRESSES).

OSHA posts submissions without change at http://www.regulations.gov. Therefore, OSHA cautions interested parties about submitting personal information such as Social Security numbers and birth dates. Although all submissions are listed in the http://www.regulations.gov index, some information (e.g., copyrighted material) is not publicly available to read or download through http://www.regulations.gov. All submissions, including copyrighted material, are available for inspection and copying at the OSHA Docket Office. Information on using the http://www.regulations.gov to submit comments and access the docket is available on that Web site. Please contact the OSHA Docket Office for information about materials not available through that Web site and for assistance in using the internet to locate docket submissions.

Electronic copies of this Federal Register document also are available at http://www.regulations.gov. This document, as well as news releases and other relevant information, are available at OSHA's Web site at http://www.osha.gov.

Authority and Signature

David Michaels, Ph.D., MPH, Assistant Secretary of Labor for Occupational Safety and Health, directed the preparation of this notice under the authority granted by 29 U.S.C. 656, (5 U.S.C. App. 2; 29 CFR Part 1912a; 41 CFR part 102-3; and Secretary of Labor's Order No. 1-2012 (77 FR 3912, 1/25/2012).

Signed at Washington, DC, on March 21, 2014.
David Michaels,
Assistant Secretary of Labor for Occupational Safety and Health.

[FR Doc. 2014-06696 Filed 3-25-14; 8:45 am]

BILLING CODE 4510-26-P